DEPARTMENT OF AGRICULTURE

Food Safety and Inspection Service

9 CFR Part 331

[Docket No. 00-038F]

Termination of Designation of the State of North Dakota with Respect to the Inspection of Meat and Meat Food Products

AGENCY: Food Safety and Inspection Service, USDA.

ACTION: Final rule.

SUMMARY: This final rule amends the Federal meat inspection regulations by terminating the designation of the State of North Dakota under Titles I, II, and IV of the Federal Meat Inspection Act (FMIA). The State of North Dakota has enacted a State meat inspection program law and regulations that impose inspection requirements that are at least equal to those requirements of the FMIA. The State of North Dakota will remain designated under sections 1-4, 6-10, and 12-22 of the Poultry Products Inspection Act (PPIA).

DATES: The effective date of this final rule is October 15, 2000.

FOR FURTHER INFORMATION CONTACT: Dr. William F. Leese, Director, Federal-State Relations Staff, Food Safety and Inspection Service; telephone (202) 418-8900 or fax (202) 418-8834.

SUPPLEMENTARY INFORMATION:

Background

Section 301(c) of the FMIA (21 U.S.C. 661(c)) and section 5(c) of the PPIA (21 U.S.C. 454(c)), respectively, authorize the Secretary of Agriculture to designate a State as one in which the provisions of Titles I and IV of the FMIA and sections 1-4, 6-10, and 12-22 of the PPIA will apply to operations and transactions wholly within the State after the Secretary has determined that requirements at least “equal to” those imposed under the Acts have not been developed and effectively enforced by the State.

On June 22, 1970, and January 2, 1971, the Secretary designated the State of North Dakota under section 301(c) of the FMIA and section 5(c) of the PPIA respectively as a State in which the Federal Government is responsible for providing meat and poultry inspection at eligible establishments and for otherwise enforcing the applicable provisions of the FMIA and the PPIA with regard to intrastate activities in the State.

In addition, on July 23, 1973, and October 29, 1975, the Federal Government assumed the responsibility of administering the authorities provided for under sections 202, 203, and 204 of the FMIA (21 U.S.C. 642, 643, and 644) and sections 11(b) and (c) of the PPIA (21 U.S.C. 460 (b) and (c)) respectively regarding certain classes of operators of meat and poultry products in North Dakota.

These designations were undertaken by the Department when it determined that the State of North Dakota was not in a position to enforce requirements that are at least “equal to” the requirements of FMIA and PPIA enforced by the Federal Government.

The Commissioner of Agriculture of the State of North Dakota has advised FSIS that on October 15, 2000, the State of North Dakota will be in a position to administer a State meat inspection program that includes requirements at least “equal to” those imposed under the Federal meat inspection program. The Commissioner of Agriculture of the State of North Dakota also has advised FSIS that the State, at this time, will remain designated for poultry products under the PPIA.

Section 301(c)(3) of the FMIA provides that whenever the Secretary of Agriculture determines that any designated State has developed and will enforce State meat inspection requirements at least “equal to” those imposed by the Federal Government under Titles I and IV of the FMIA, with regard to intrastate operations and transactions within the State, the Secretary will terminate the designation of such State. The Secretary has determined that the State of North Dakota has developed, and will enforce, such a State meat inspection program in accordance with such provisions of Titles I and IV of the FMIA. In addition, the Secretary has determined that the State of North Dakota is in a position to enforce effectively the provisions of sections 202, 203, and 204 of the FMIA. The designation of the State of North Dakota under sections 1-4, 6-10, and 12-22 of the PPIA will remain in effect and is not terminated.

Since it does not appear that public participation in this matter would make additional relevant information available to the Secretary under the administrative procedure provisions in 5 U.S.C. 553, it is found upon good cause that such public procedure is impracticable and unnecessary.

Executive Order 12866

This final rule is issued in conformance with Executive Order 12866 and has been determined not to be a major rule. It will not result in an annual effect on the economy of $100 million or more and will not adversely affect the economy or any segment of the economy. Because this final rule is not a significant rule under Executive Order 12866, it has not undergone review by the Office of Management and Budget.

Effect on Small Entities

The FSIS Administrator has determined that this action will not have a significant economic impact on a substantial number of small entities, as defined by the Regulatory Flexibility Act, Pub. L. 96-354 (6 U.S.C. 601). As stated above, the State of North Dakota is assuming a responsibility, previously limited to the Federal Government, of administering the meat inspection program for intrastate operations and transactions. The State's poultry products inspection program, at this time, will remain designated. No additional requirements are being imposed on small entities.

Additional Public Notification

FSIS has considered the potential civil rights impact of this final rule on minorities, women, and persons with disabilities. Public involvement in all segments of rulemaking and policy development is important. Consequently, in an effort to better ensure that minorities, women, and persons with disabilities are aware of this rulemaking, FSIS will announce it and provide copies of this Federal Register publication in the FSIS Constituent Update.

FSIS provides a weekly Constituent Update, which is communicated via fax to more than 300 organizations and individuals. In addition, the update is available on-line through the FSIS web page located at http://www.fsis.usda.gov. The update is used to provide information regarding FSIS policies, procedures, regulations, Federal Register notices, FSIS public meetings, recalls, and any other types of information that could affect or be of interest to our constituents and shareholders. The constituent fax list consists of industry, trade, and farm groups, consumer interest groups, allied health professionals, and other persons who have requested to be included. Through these various channels, FSIS is able to provide information to a much broader and diverse audience. For more information and to be added to the constituent fax list, fax your request to (202) 720-5704.

List of Subjects in 9 CFR Part 331

Meat inspection.

Part 331 of the Federal meat inspection regulations (9 CFR Part 331 is amended to read as follows:

PART 331—[AMENDED]

The authority citation for Part 331 continues to read as follows:

Authority: 21 U.S.C. 601-695; 7 CFR 2.17, 2.55

§ 331.2 [Amended]

1. The table in § 331.2 of the Federal meat inspection regulations is amended by removing the entry for “North Dakota.”

§ 331.6 [Amended]

2. Section 331.6 of the Federal meat inspection regulations is amended by removing the entries for “North Dakota” each place it appears.

Done in Washington, DC, on: October 12, 2000.
Thomas J. Billy,
Administrator.

[FR Doc. 00-26658 Filed 10-18-00; 8:45 am]

BILLING CODE 3410-DM-P